DEPARTMENT OF HOMELAND SECURITY

Coast Guard

33 CFR Part 117

[Docket No. USCG-2016-0866]

Drawbridge Operation Regulation; James River, Isle of Wight and Newport News, VA

AGENCY: Coast Guard, DHS.

ACTION: Notice of deviation from drawbridge regulation.

SUMMARY: The Coast Guard has issued a temporary deviation from the operating schedule that governs the James River Bridge (US17) across the James River, mile 5.0, at Isle of Wight and Newport News, VA. The deviation is necessary to perform bridge maintenance and repairs. This deviation allows the bridge to remain in the closed-to-navigation position.

DATES: This deviation is effective from 5 a.m. on September 19, 2016, to 7 p.m. on October 16, 2016.

ADDRESSES: The docket for this deviation, [USCG-2016-0866] is available at http://www.regulations.gov. Type the docket number in the “SEARCH” box and click “SEARCH”. Click on Open Docket Folder on the line associated with this deviation.

FOR FURTHER INFORMATION CONTACT: If you have questions on this temporary deviation, call or email Mr. Hal R. Pitts, Bridge Administration Branch Fifth District, Coast Guard, telephone 757-398-6222, email Hal.R.Pitts@uscg.mil.

SUPPLEMENTARY INFORMATION: The Virginia Department of Transportation, that owns and operates the James River Bridge (US17), across the James River, mile 5.0, at Isle of Wight and Newport News, VA, has requested a temporary deviation from the current operating regulations to perform repairs to the aerial electrical cable connecting the north tower to the south tower. The bridge is a vertical lift draw bridge and has a vertical clearance in the closed position of 60 feet above mean high water.

The current operating schedule is open on signal as set out in 33 CFR 117.5. Under this temporary deviation, the bridge will remain in the closed-to-navigation position from 5 a.m. to 7 p.m. from September 19, 2016, through September 30, 2016; with alternate dates from October 1, 2016, through October 16, 2016. During this temporary deviation, the bridge will operate per 33 CFR 117.5 from 7 p.m. to 5 a.m.

The James River is used by a variety of vessels including deep draft ocean-going vessels, U. S. government vessels, small commercial vessels, recreational vessels and tug and barge traffic. The Coast Guard has carefully coordinated the restrictions with waterway users.

During closure periods a 55-foot by 150-foot crane barge will be positioned alongside the bridge at various locations within the main navigation span of the bridge with the centerline of the barge perpendicular to the bridge. Vessels able to safely pass through the bridge in the closed position with the crane barge positioned alongside the bridge may do so at anytime. Vessels planning to transit through the bridge in the closed position with the crane barge positioned alongside the bridge shall contact the bridge tender to request information concerning the position of the crane barge to ensure safe passage.

Vessels able to safely pass through the bridge in the closed position that require the crane barge to clear the main navigation span of the bridge, may do so at noon, daily, if at least two hours advance notice is given to the bridge tender. The bridge will open on signal for vessels that require an opening of the bridge and are unable to transit through the bridge during non-closure times due to draft and/or daylight restrictions, if notice is provided by 5 p.m. the day before the required bridge opening. The bridge will not be able to open for emergencies and there is no immediate alternate route for vessels to pass. The Coast Guard will also inform the users of the waterways through our Local and Broadcast Notices to Mariners of the change in operating schedule for the bridge so that vessel operators can arrange their transit to minimize any impact caused by the temporary deviation.

In accordance with 33 CFR 117.35(e), the drawbridge must return to its regular operating schedule immediately at the end of the effective period of this temporary deviation. This deviation from the operating regulations is authorized under 33 CFR 117.35.

Dated: September 13, 2016.
Hal R. Pitts,
Bridge Program Manager, Fifth Coast Guard District.

[FR Doc. 2016-22300 Filed 9-15-16; 8:45 am]

BILLING CODE 9110-04-P